DEPARTMENT OF AGRICULTURE

Animal and Plant Health Inspection Service

7 CFR Part 319

[Docket No. APHIS-2016-0051]

RIN 0579-AE31

Importation of Campanula Spp. Plants for Planting in Approved Growing Media From Denmark to the United States

AGENCY: Animal and Plant Health Inspection Service, USDA.

ACTION: Proposed rule.

SUMMARY: We are proposing to amend the regulations governing the importation of plants for planting to authorize the importation of Campanula spp. plants for planting from Denmark in approved growing media into the United States, subject to a systems approach. The systems approach would consist of measures that are currently specified in the regulations as generally applicable to all plants for planting authorized importation into the United States in approved growing media. This proposed rule would allow for the importation of Campanula spp. plants for planting from Denmark in approved growing media, while providing protection against the introduction of plant pests.

DATES: We will consider all comments that we receive on or before August 21, 2017.

ADDRESSES: You may submit comments by either of the following methods:

• Federal eRulemaking Portal: Go to http://www.regulations.gov/#!docketDetail;D=APHIS-2016-0051.

• Postal Mail/Commercial Delivery: Send your comment to Docket No. APHIS-2016-0051, Regulatory Analysis and Development, PPD, APHIS, Station 3A-03.8, 4700 River Road Unit 118, Riverdale, MD 20737-1238.

Supporting documents and any comments we receive on this docket may be viewed at http://www.regulations.gov/#!docketDetail;D=APHIS-2016-0051 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Narasimha Samboju, Senior Regulatory Policy Specialist, Plants for Planting Policy, PPQ, APHIS, 4700 River Road, Unit 133, Riverdale, MD 20737-1236; (301) 851-2038.

SUPPLEMENTARY INFORMATION:

Background

The regulations in 7 CFR part 319 prohibit or restrict the importation of certain plants and plant products into the United States to prevent the introduction of quarantine plant pests. The regulations contained in “Subpart—Plants for Planting,” §§ 319.37 through 319.37-14 (referred to below as the regulations), prohibit or restrict, among other things, the importation of living plants, plant parts, and seeds for propagation or planting.

The regulations differentiate between prohibited articles and restricted articles. Prohibited articles are plants for planting whose importation into the United States is not authorized due to the risk the articles present of introducing or disseminating plant pests. Restricted articles are articles that may be imported into the United States, provided that the articles are subject to measures to address the associated risks.

Conditions for the importation into the United States of restricted articles in growing media are found in § 319.37-8. In § 319.37-8, the introductory text in paragraph (e) lists taxa of restricted articles that may be imported into the United States in approved growing media, subject to the provisions of a systems approach. Paragraph (e)(1) lists the approved growing media, while paragraph (e)(2) contains the provisions of the systems approach. Within paragraph (e)(2), paragraphs (i) through (viii) contain provisions that are generally applicable to all the taxa listed in the introductory text of paragraph (e), while paragraphs (ix) through (xiii) contain additional, taxon-specific provisions.

Currently, Campanula spp. plants for planting from Denmark are not authorized for importation into the United States in approved growing media. However, the Animal and Plant Health Inspection Service (APHIS) has received a request from the national plant protection organization (NPPO) of Denmark to authorize the importation of Campanula spp. plants for planting in approved growing media into the United States.

In evaluating Denmark's request, we conducted a pest risk assessment (PRA) and prepared a risk management document (RMD). Copies of the PRA and the RMD may be obtained from the person listed under FOR FURTHER INFORMATION CONTACT or viewed on the Regulations.gov Web site (see ADDRESSES above for instructions for accessing Regulations.gov).

The PRA, titled “Importation of Campanula spp. in Approved Growing Media from Denmark into the United States,” analyzed the potential pest risk associated with the importation of Campanula spp. plants for planting in approved growing media into the United States from Denmark.

The PRA identified 10 quarantine pests that could be introduced into the United States through the importation of Campanula spp. plants for planting from Denmark in approved growing media:

Leaf Miners

• Liriomyza buhri,

• Liriomyza strigata, and

• Phytomyza campanulae

Whitefly

• Aleyrodes lonicerae

Aphids

• Aphis psammophila,

• Uroleucon campanulae,

• Uroleucon nigrocampanulae, and

• Uroleucon rapunculoidis

Thrips

• Thrips major

Snail

• Arianta arbustorum

The PRA determined that these 10 pests pose a medium risk of following the pathway of Campanula spp. plants for planting in approved growing media from Denmark into the United States and having negative effects on U.S. agriculture.

Based on these risk ratings, the RMD, titled “Importation of Campanula spp. in Approved Growing Media from Denmark into the United States,” identifies the phytosanitary measures necessary to ensure the safe importation into the United States of Campanula spp. plants for planting in approved growing media from Denmark. The RMD finds that the mitigations that are currently specified in paragraphs (e)(2)(i) through (e)(2)(viii) of § 319.37-8 and that are generally applicable to the importation of all restricted articles authorized importation into the United States in approved growing media will mitigate the risk associated with the importation of Campanula spp. plants for planting in approved growing media from Denmark into the United States.

Accordingly, we propose to amend the introductory text of paragraph (e) of § 319.37-8 to add Campanula spp. plants for planting from Denmark to the list of taxa authorized importation into the United States in approved growing media.

Executive Orders 12866 and 13771 and Regulatory Flexibility Act

This proposed rule has been determined to be not significant for the purposes of Executive Order 12866 and, therefore, has not been reviewed by the Office of Management and Budget. Further, because this proposed rule is not significant, it does not trigger the requirements of Executive Order 13771

In accordance with 5 U.S.C. 603, we have performed an initial regulatory flexibility analysis, which is summarized below, regarding the economic effects of this proposed rule on small entities. Copies of the full analysis are available by contacting the person listed under FOR FURTHER INFORMATION CONTACT or on the Regulations.gov Web site (see ADDRESSES above for instructions for accessing Regulations.gov).

Based on the information we have, there is no reason to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

In 2014, U.S. production of potted Campanula spp. plants was valued at $683,000. The Small Business Administration (SBA) small-entity standard for entities involved in floriculture production is $750,000 or less in annual receipts. It is probable that most domestic producers of potted Campanula are small entities by the SBA standard.

We do not have specific trade or production data for Campanula spp. plants in Denmark, but one Danish industry group estimated that production in 2010 reached 20 million units. The NPPO of Denmark estimates that shipments of Campanula plants in growing media to the United States may total $1 million annually, that is, the volume could reach a level higher than domestic U.S. production.

Although the rule could theoretically enable Denmark-based exporters to bypass U.S. growers altogether and provide finished plants directly to retailers, such a scenario is considered unlikely, given the additional shipping and marketing support costs associated with shipping finished plants in pots. It is more likely that the Danish growers would continue to export immature plants to U.S. growers who would then grow them out for sale as finished plants. Allowing the importation of Campanula spp. in growing media would positively affect the quality and health of any such imported plants relative to those imported without growing media, and might also result in related price adjustments for the retail market. It is unlikely that it would shorten the marketing chain by eliminating the role of intermediate handlers of plants. Instead, this action is likely to benefit both importers and domestic intermediate growers by increasing the production quality, while expanding the market size. It is possible that some domestic growers of unfinished Campanula would be competing directly with Danish suppliers, but at pre-saturation market levels, this is also unlikely to be a significant issue.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

National Environmental Policy Act

To provide the public with documentation of APHIS' review and analysis of any potential environmental impacts associated with the importation of Campanula spp. plants in approved growing media from Denmark into the United States, we have prepared an environmental assessment. The environmental assessment was prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment may be viewed on the Regulations.gov Web site or in our reading room. (A link to Regulations.gov and information on the location and hours of the reading room are provided under the heading ADDRESSES at the beginning of this proposed rule.) In addition, copies may be obtained by calling or writing to the individual listed under FOR FURTHER INFORMATION CONTACT.

Paperwork Reduction Act

In accordance with section 3507(d) of the Paperwork Reduction Act of 1995 (44 U.S.C. 3501 et seq.), reporting and recordkeeping requirements included in this proposed rule have been submitted for approval to the Office of Management and Budget (OMB). Please send comments on the Information Collection Request (ICR) to OMB's Office of Information and Regulatory Affairs via email to oira_submissions@omb.eop.gov, Attention: Desk Officer for APHIS, Washington, DC 20503. Please state that your comments refer to Docket No. APHIS-2016-0051. Please send a copy of your comments to the USDA using one of the methods described under ADDRESSES at the beginning of this document.

APHIS is proposing to amend the regulations governing the importation of plants for planting to authorize the importation of Campanula spp. plants for planting from Denmark in approved growing media into the United States, subject to a systems approach. The systems approach would consist of measures that are currently specified in the regulations as generally applicable to all plants for planting authorized importation into the United States in approved growing media. This proposed rule would allow for the importation of Campanula spp. plants for planting from Denmark in approved growing media, while providing protection against the introduction of plant pests.

Implementing this information collection will require respondents to complete a phytosanitary certificate, written compliance agreements, and inspections.

We are soliciting comments from the public (as well as affected agencies) concerning our proposed information collection requirements. These comments will help us:

(1) Evaluate whether the proposed information collection is necessary for the proper performance of our agency's functions, including whether the information will have practical utility;

(2) Evaluate the accuracy of our estimate of burden of the information collection, including the validity of the methodology and assumptions used;

(3) Enhance the quality, utility, and clarity of the information to be collected; and

(4) Minimize the burden of the information collection on those who are to respond, (such as through the use of appropriate automated, electronic, mechanical, or other technological collection techniques or other forms of information technology; e.g., permitting electronic submission of responses).

Estimate of burden: Public reporting burden for this collection of information is estimated to average 0.83 hours per response.

Respondents: Growers and the national plant protection organization of Denmark.

Estimated number of respondents: 3.

Estimated number of responses per respondent: 62.

Estimated annual number of responses: 185.

Estimated total annual burden on respondents: 155 hours (Due to rounding, the total annual burden hours may not equal the product of the annual number of responses multiplied by the average reporting burden per response).

A copy of the information collection may be viewed on the Regulations.gov Web site or in our reading room. (A link to Regulations.gov and information on the location and hours of the reading room are provided under the heading ADDRESSES at the beginning of this proposed rule.) Copies can also be obtained from Ms. Kimberly Hardy, APHIS' Information Collection Coordinator, at (301) 851-2483. APHIS will respond to any ICR-related comments in the final rule. All comments will also become a matter of public record.

E-Government Act Compliance

The Animal and Plant Health Inspection Service is committed to compliance with the EGovernment Act to promote the use of the Internet and other information technologies, to provide increased opportunities for citizen access to Government information and services, and for other purposes. For information pertinent to E-Government Act compliance related to this proposed rule, please contact Ms. Kimberly Hardy, APHIS' Information Collection Coordinator, at (301) 851-2483.

List of Subjects in 7 CFR Part 319

Coffee, Cotton, Fruits, Imports, Logs, Nursery stock, Plant diseases and pests, Quarantine, Reporting and recordkeeping requirements, Rice, Vegetables.

Accordingly, we propose to amend 7 CFR part 319 as follows:

PART 319-FOREIGN QUARANTINE NOTICES

1. The authority citation for part 319 continues to read as follows:

Authority: 7 U.S.C. 450, 7701-7772, and 7781-7786; 21 U.S.C. 136 and 136a; 7 CFR 2.22, 2.80, and 371.3.

§ 319.37-8 [Amended]

2. In § 319.37-8, in the introductory text of paragraph (e), the list of plants is amended by adding, in alphabetical order, an entry for “Campanula spp. from Denmark”.

Done in Washington, DC, this 14th day of June 2017.
Michael C. Gregoire,
Acting Administrator, Animal and Plant Health Inspection Service.

[FR Doc. 2017-12801 Filed 6-19-17; 8:45 am]

BILLING CODE 3410-34-P